DEPARTMENT OF DEFENSE

DEPARTMENT OF THE AIR FORCE

Notice of Intent To Prepare an Environmental Impact Statement for Beddown of Training F-35A Aircraft

AGENCY: Air Education and Training and Air National Guard, United States Air Force.

ACTION: Notice of Intent.

SUMMARY: Pursuant to the National Environmental Policy Act (NEPA) of 1969, as amended (42 U.S.C. 4321, et seq.), the Council on Environmental Quality (CEQ) Regulations for Implementing the Procedural Provisions of NEPA (40 CFR Parts 1500-1508), and Air Force policy and procedures (32 CFR Part 989), the Air Force is issuing this notice to advise the public of its intent to prepare an Environmental Impact Statement (EIS) to assess the potential environmental impacts of establishing training F-35 Joint Strike Fighter (JSF) aircraft at one or more existing Air Force installations within the continental United States.

The proposed basing alternatives are Luke AFB, Arizona; Holloman AFB, New Mexico; Eglin AFB, Florida; Air Terminal Air Guard Station, Idaho; and Tucson International Airport Air Guard, Arizona. Each candidate base is an alternative. The potential environmental impacts for each alternative will be analyzed for no action and in six increments of 24 primary assigned aircraft.

The Air Force version of the F-35 JSF, designated F-35A, is a conventional take-off, multiple-role fighter with an emphasis on air-to-ground missions. The aircraft was designed to supplement and eventually replace legacy aircraft as well as complement the air-to-air mission of the F-22A Raptor. At any of the alternative locations, the beddown action would involve personnel changes, facility construction and modifications, and aircraft training operations.

Scoping: In order to effectively define the full range of issues to be evaluated in the EIS, the Air Force will determine the scope of the EIS (i.e., what will be covered and in what detail) by soliciting scoping comments from interested state and federal agencies and interested members of the public through the Federal Register and various media in the local areas of concern. Scoping comments should be submitted to the address below by the date indicated. The Air Force will also hold a series of scoping meetings to further solicit input regarding the scope of the proposed action and alternatives.

DATES: Scoping meetings will be held in the potentially impacted communities. The scheduled dates, times, locations and addresses for the meetings will be published in local media a minimum of 15 days prior to the scoping meetings. The Air Force intends to hold scoping meetings in the following communities: January 25-29, 2010 Carrizozo, Alamogordo, Truth or Consequences, Socorro, and Fort Sumner, New Mexico; February 8-12, 2010 Marsing, Boise, Meridian, and Bruneau Idaho; February 22-26, 2010 El Mirage, Sun City, Gila Bend, Wickenburg, and Litchfield Park, Arizona; March 1-5, 2010 Tucson, San Carlos, Safford, Bisbee, Arizona.

Comments will be accepted at any time during the environmental impact analysis process. However, to ensure the Air Force has sufficient time to consider public input in the preparation of the Draft EIS, comments should be submitted to the address below by March 25, 2010.

FOR FURTHER INFORMATION CONTACT: Mr. David Martin, HQ AETC/A7PP, 266 F Street West, Randolph AFB, TX 78150-4319, telephone 210-652-1962.

Bao-Anh Trinh, YA-3, DAF,
Air Force Federal Register Liaison Officer.

[FR Doc. E9-30664 Filed 12-24-09; 8:45 am]

BILLING CODE 5001-05-P